DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Petroleum Marketing Program (PMP) as required under the Paperwork Reduction Act of 1995. EIA's PMP collects volumetric and price information needed for determining the supply of and demand for crude oil and refined petroleum products. PMP consists of 10 surveys that collect data on petroleum products. EIA uses this information to monitor volumes and prices for crude oil and petroleum products.

DATES: EIA must receive all comments on this proposed information collection no later than May 25, 2021. If you anticipate any difficulties in submitting your comments by the deadline, contact the person listed in the ADDRESSES section of this notice as soon as possible.

ADDRESSES: Submit comments electronically to Tammy Heppner by email at tammy.heppner@eia.gov.

FOR FURTHER INFORMATION CONTACT: Tammy Heppner, U.S. Energy Information Administration, telephone (202) 586-4748, or by email at tammy.heppner@eia.gov. The forms and instructions are available on EIA's website at http://www.eia.gov/survey/notice/marketing2021.php.

SUPPLEMENTARY INFORMATION: This information collection request contains:

(1) OMB No.: 1905-0174;

(2) Information Collection Request Title: Petroleum Marketing Program;

(3) Type of Request: Three year extension with changes;

(4) Purpose: The surveys included in the Petroleum Marketing Program collect volume and price information needed for determining the supply of and demand for crude oil and refined petroleum products. These surveys provide a basic set of data pertaining to the structure, efficiency, and behavior of petroleum markets. These data are published by EIA on its website, at http://www.eia.gov. The Petroleum Marketing Program consists of the following surveys:

Form EIA-14 Refiners' Monthly Cost Report;

Form EIA-182 Domestic Crude Oil First Purchase Report;

Form EIA-782A Refiners'/Gas Plant Operators' Monthly Petroleum Product Sales Report;

Form EIA-782C Monthly Report of Prime Supplier Sales of Petroleum Products Sold For Local Consumption;

Form EIA-821 Annual Fuel Oil and Kerosene Sales Report;

Form EIA-856 Monthly Foreign Crude Oil Acquisition Report;

Form EIA-863 Petroleum Product Sales Identification Survey;

Form EIA-877 Winter Heating Fuels Telephone Survey;

Form EIA-878 Motor Gasoline Price Survey;

Form EIA-888 On-Highway Diesel Fuel Price Survey.;

(4a) Proposed Changes to Information Collection:

Form EIA-888, On-Highway Diesel Fuel Price Survey

EIA is proposing to collect annual sales volumes of on-highway diesel fuel on Form EIA-888, On-Highway Diesel Fuel Price Survey. This survey collects weekly retail on-highway diesel fuel prices from a sample of truck stops and service stations and publishes price estimates at various regional levels and the State of California. EIA is updating its frame of retail diesel fuel outlets and proposing to redesign the sample of retail outlets using a new sample design. The new sample will replace the current sample that reports on Form EIA-888. EIA will continue to use Form EIA-888, Schedule A to collect weekly prices from the new sample and will use the new Form EIA-888, Schedule B to collect annual sales volume information and station characteristics that will be used to determine eligibility and size. EIA will use annual sales volumes of on-highway diesel fuel to determine the measure of size used for weighting data reported by the outlets selected in the new sample and are collected one time from newly sampled outlets.

Form EIA-878, Motor Gasoline Price Survey

EIA proposes to modify Schedule B of Form EIA-878, Motor Gasoline Price Survey to further clarify the collection of gasoline octane levels and ethanol content by grade for annual gasoline sales volumes. These volumes are used to determine a measure of size used for weighting data reported by the sampled outlets and are collected one time from newly sampled outlets.

Form EIA-877, Winter Heating Fuels Telephone Survey

EIA proposes to collect residential heating oil and propane prices on a monthly basis during the off-heating season (April to September) beginning April 2023 on Form EIA-877, Winter Heating Fuels Telephone Survey. This survey collects weekly residential heating oil and propane prices during the heating season, October to March, from a sample of retail outlets that sell these heating fuels. EIA receives many requests for EIA-877 summer prices each year because many heating oil and propane customers fill their tanks before the winter heating season starts, when prices are generally lower than during the winter months. Collecting monthly prices during the summer will meet the needs of these customers, as well as provide a data series for more comprehensive EIA analysis on these markets.

(5) Annual Estimated Number of Respondents: 22,516;

(6) Annual Estimated Number of Total Responses: 196,032;

(7) Annual Estimated Number of Burden Hours: 63,226;

(8) Annual Estimated Reporting and Recordkeeping Cost Burden: $5,162,403 (63,226 annual burden hours multiplied by $81.65 per hour). EIA estimates that respondents will have no additional costs associated with the surveys other than the burden hours and the maintenance of the information during the normal course of business. Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on March 22, 2021.
Samson A. Adeshiyan,
Director, Office of Statistical Methods and Research, U.S. Energy Information Administration.

[FR Doc. 2021-06270 Filed 3-25-21; 8:45 am]

BILLING CODE 6450-01-P